ENVIRONMENTAL PROTECTION AGENCY

[FRL-9126-6]

Proposed Settlement Agreement and Consent Decree, Clean Air Act Citizen Suit

AGENCY: Environmental Protection Agency (EPA).

ACTION: Notice of proposed settlement agreement and consent decree; request for public comment.

SUMMARY: In accordance with section 113(g) of the Clean Air Act, as amended (“Act”), 42 U.S.C. 7413(g), notice is hereby given of a proposed settlement agreement and consent decree, to address a lawsuit filed by Wildearth Guardians: Wildearth Guardians v. Jackson, Civil Action No. 09-cv-02148-REB-MJW (D. Col.). On or about October 22, 2009, Wildearth Guardians filed an amended complaint alleging that EPA Administrator Jackson failed to comply with a mandatory duty to fully or partially approve or disapprove State Implementation Plan (SIP) submissions from the States of Colorado, Montana, New Mexico and Utah within the time frame required by section 110(k)(2) of the Act and asking the court to enter judgment providing: (i) A declaration that EPA has violated and continues to violate the Act by failing to take final action on the SIP submittals; and, (ii) An injunction compelling EPA to take final action on the SIP submittals by a date certain with interim deadlines to assure compliance with the court's order. Under the terms of the proposed settlement agreement and consent decree, EPA agrees to sign a proposed action on certain of the SIP submittals by the date specified for the particular submittal and to take final action on each of the SIP submittals by the date specified for the particular submittal.

DATES: Written comments on the proposed settlement agreement and consent decree must be received by April 12, 2010.

ADDRESSES: Submit your comments, identified by Docket ID number EPA-HQ-OGC-2010-0221, online at www.regulations.gov (EPA's preferred method); by e-mail to oei.docket@epa.gov; by mail to EPA Docket Center, Environmental Protection Agency, Mailcode: 2822T, 1200 Pennsylvania Ave., NW., Washington, DC 20460-0001; or by hand delivery or courier to EPA Docket Center, EPA West, Room 3334, 1301 Constitution Ave., NW., Washington, DC, between 8:30 a.m. and 4:30 p.m. Monday through Friday, excluding legal holidays. Comments on a disk or CD-ROM should be formatted in Word or ASCII file, avoiding the use of special characters and any form of encryption, and may be mailed to the mailing address above.

FOR FURTHER INFORMATION CONTACT: Rick Vetter, Air and Radiation Law Office (2344A), Office of General Counsel, U.S. Environmental Protection Agency, 1200 Pennsylvania Ave., NW., Washington, DC 20460; telephone: (919) 541-2127; fax number (919) 541-4991; e-mail address: vetter.rick@epa.gov.

SUPPLEMENTARY INFORMATION:

I. Additional Information About the Proposed Settlement or Consent Decree

On October 22, 2009, Wildearth Guardians, a non-profit conservation organization, filed an amended complaint in the United States District Court for the District of Colorado (Civil Action No. 09-cv-02148-REB-MJW). In the amended complaint, Wildearth Guardians alleges that EPA has failed to take action to approve or disapprove, in whole or in part, a number of State Implementation Plan (“SIP”) submissions from the States of Colorado, Montana, New Mexico and Utah within the time frame required by section 110(k)(2) of the Clean Air Act, 42 U.S.C. 7410(k)(2), in violation of its non-discretionary duty to take such action within that time frame. The amended complaint identifies a total of 55 SIP submittals (10 from Colorado, 12 from Montana, 7 from Utah and 26 from New Mexico) on which EPA is alleged to have failed to take timely action.

The EPA elected to use both a settlement agreement and a consent decree to document its agreement with Wildearth Guardians. Both documents identify each individual SIP submittal that is addressed in the particular document. For some of the submittals the relevant document specifies both a date for signature on a proposed action and a date for signature on a final action, while for others, the relevant document only specifies a date for signature on a final action. The earliest date by which signature on a final action is required is 12/31/2010 and the latest date by which signature on a final action is required is 6/29/2012.

For a period of thirty (30) days following the date of publication of this notice, the Agency will receive written comments relating to the proposed settlement agreement and consent decree from persons who were not named as parties or intervenors to the litigation in question. EPA or the Department of Justice may withdraw or withhold consent to the proposed settlement agreement and/or consent decree if the comments disclose facts or considerations that indicate that such consent is inappropriate, improper, inadequate, or inconsistent with the requirements of the Act. Unless EPA or the Department of Justice determines, based on any comment which may be submitted, that consent to the settlement agreement and/or consent decree should be withdrawn, the terms of the agreement and decree will be affirmed.

II. Additional Information About Commenting on the Proposed Settlement Agreement and/or Consent Decree

A. How Can I Get a Copy of the Settlement Agreement and/or Consent Decree?

Direct your comments to the official public docket for this action under Docket ID No. EPA-HQ-OGC-2010-0221 which contains a copy of both the settlement agreement and the consent decree. The official public docket is available for public viewing at the Office of Environmental Information (OEI) Docket in the EPA Docket Center, EPA West, Room 3334, 1301 Constitution Ave., NW., Washington, DC. The EPA Docket Center Public Reading Room is open from 8:30 a.m. to 4:30 p.m., Monday through Friday, excluding legal holidays. The telephone number for the Public Reading Room is (202) 566-1744, and the telephone number for the OEI Docket is (202) 566-1752.

An electronic version of the public docket is available through www.regulations.gov. You may use the www.regulations.gov to submit or view public comments, access the index listing of the contents of the official public docket, and to access those documents in the public docket that are available electronically. Once in the system, key in the appropriate docket identification number, then select “search”.

It is important to note that EPA's policy is that public comments, whether submitted electronically or in paper, will be made available for public viewing online at www.regulations.gov without change, unless the comment contains copyrighted material, CBI, or other information whose disclosure is restricted by statute. Information claimed as CBI and other information whose disclosure is restricted by statute is not included in the official public docket or in the electronic public docket. EPA's policy is that copyrighted material, including copyrighted material contained in a public comment, will not be placed in EPA's electronic public docket but will be available only in printed, paper form in the official public docket. Although not all docket materials may be available electronically, you may still access any of the publicly available docket materials through the EPA Docket Center.

B. How and to Whom Do I Submit Comments?

You may submit comments as provided in the ADDRESSES section. Please ensure that your comments are submitted within the specified comment period. Comments received after the close of the comment period will be marked “late.” EPA is not required to consider these late comments.

If you submit an electronic comment, EPA recommends that you include your name, mailing address, and an e-mail address or other contact information in the body of your comment and with any disk or CD ROM you submit. This ensures that you can be identified as the submitter of the comment and allows EPA to contact you in case EPA cannot read your comment due to technical difficulties or needs further information on the substance of your comment. Any identifying or contact information provided in the body of a comment will be included as part of the comment that is placed in the official public docket, and made available in EPA's electronic public docket. If EPA cannot read your comment due to technical difficulties and cannot contact you for clarification, EPA may not be able to consider your comment.

Use of the www.regulations.gov Web site to submit comments to EPA electronically is EPA's preferred method for receiving comments. The electronic public docket system is an “anonymous access” system, which means EPA will not know your identity, e-mail address, or other contact information unless you provide it in the body of your comment. In contrast to EPA's electronic public docket, EPA's electronic mail (e-mail) system is not an “anonymous access” system. If you send an e-mail comment directly to the Docket without going through www.regulations.gov, your e-mail address is automatically captured and included as part of the comment that is placed in the official public docket, and made available in EPA's electronic public docket.

Dated: March 8, 2010.
Richard B. Ossias,
Associate General Counsel.

[FR Doc. 2010-5483 Filed 3-11-10; 8:45 am]

BILLING CODE 6560-50-P